DEPARTMENT OF COMMERCE

International Trade Administration

Massachusetts Institute of Technology, et al., Notice of Consolidated Decision on Applications, for Duty-Free Entry of Scientific Instruments

This is a decision consolidated pursuant to Section 6(c) of the Educational, Scientific, and Cultural Materials Importation Act of 1966 (Pub. L. 89-651, 80 Stat. 897; 15 CFR part 301). Related records can be viewed between 8:30 A.M. and 5:00 P.M. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 05-046. Applicant: Massachusetts Institute of technology, Boston, MA. Instrument: High-resolution Superconducting Magnet. Manufacturer: Jastec, Japan.Intended Use: See notice at 70 FR 73991, December 14, 2005. Reasons: The foreign article is a compatible ancillary device for a 500 MHz 200 mm room-temperature bore magnetic resonance spectrometer under development at MIT. It provides a persistent-mode cryocooled MRI magnet that is nominally operated at 4.2 K, but when not cryocooled, can still operate in persistent mode for up to 12 hours as the winding temperature rises from 4.2K to 6.0K. A cold body consisting of 65 liters of solidified neon permits the magnet to maintain a central field of 11.74 T (500 MHz) for the 12-hour period with its cryocooler shut off and thermally disconnected from the cold body. When the temperature reaches 6.0K, the system is recyled as the cryocooler is turned on and thermally recoupled to the cold body until the magnet returns to 4.2K. This magnet was specially designed to conform to the applicant's specifications. Two domestic manufacturers possibly capable of building the magnet declined to bid.

Docket Number: 05-054. Applicant: University of Illinois, Champaign IL. Instrument: Curved Image Plate Detector. Manufacturer: Technische Universitat Darmstadt, Germany. Intended Use: See notice at 70 FR 77145, December, 29 2005. Reasons: The foreign instrument is a compatible ancillary device which is intended to be used to develop a fast, high-resolution, x-ray powder diffraction apparatus using a beamline facility (Beamline 33-BM) at the Advanced Photon Source of Argonne National Laboratory. The detector is capable of detecting and storing x-ray intensity information proportionally over a wide dynamical range of at least five orders of magnitude with high resolution, high sensitivity and low noise (high S/N ratio). Complex algorithms are not required to extract data from the x-ray detector. Since it is curved, diffracted x-rays are incident normal to it and thus do not induce any distortion errors, while retaining the fidelity of the diffraction pattern. Intrinsic resolution down to 0.006◦ can translate into accuracy in peak position of ≤0.001◦. Position of the scanner head is provided by an optical tracking system with a grid resolution of 20 μm. The detector has an on site reader.

The capabilities of each of the foreign articles described above are pertinent to each applicant's intended purpose and we know of no domestic instrument or apparatus of equivalent scientific value for the intended use of each article.

Gerald A. Zerdy,
Program Manager, Statutory Import Programs Staff.

[FR Doc. E6-1114 Filed 1-27-06; 8:45 am]

BILLING CODE 3510-DS-S